DEPARTMENT OF ENERGY

Federal Energy Regulatory Commission

[Docket Nos. CP05-413-003, RP97-13-027 and PA05-63-003]

East Tennessee Natural Gas, LLC; Notice of Compliance Filing

November 24, 2006.

Take notice that on November 15, 2006, East Tennessee Natural Gas, LLC (East Tennessee) tendered for filing as part of its FERC Gas Tariff, Third Revised Volume No. 1, the tariff sheets listed on Appendix A to the filing, which the effective date of the tariff sheets is October 29, 2006.

East Tennessee states that the filing is being made in compliance with the Commission orders issued on September 15, 2006 and October 4, 2006 in Docket Nos. CP05-413-001 and RP97-13-025.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on December 8, 2006.

Magalie R. Salas,
Secretary.

[FR Doc. E6-20465 Filed 12-1-06; 8:45 am]

BILLING CODE 6717-01-P